DEPARTMENT OF TRANSPORTATION

Federal Aviation Administration

Notice of Opportunity for Public Comment To Dispose of 0.76 Acres of Airport Land at T.F. Green Airport, Warwick, RI

AGENCY: Federal Aviation Administration (FAA), DOT.

ACTION: Request for public comments.

SUMMARY: Notice is being given that the FAA is considering a request from the Rhode Island Airport Corporation (RIAC) to dispose of 0.76 acres of land. The parcel, made up of five smaller parcels, was acquired as part of Airport Improvement Program Grant 3-44-0003-01 and is located to the northwest of Runway 16. The parcel is no longer needed for airport purposes. Prior to and as part of the disposal, the buyer must rezone the property for commercial use and an avigation easement will be required for the property to ensure compatible land use with the airport. RIAC will obtain fair market value for the disposal of the land and the income derived from this disposal will be reinvested in a future AIP funded project for the airport.

DATES: Comments must be received on or before May 22, 2019.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration, New England Region, Airports Division, 1200 District Avenue, Burlington, Massachusetts 01803. Telephone: 781-238-7618.

Issued in Burlington, Massachusetts on April 1, 2019.
Kelly Slusarski,
Manager, Planning and Engineering.

[FR Doc. 2019-08082 Filed 4-19-19; 8:45 am]

BILLING CODE 4910-13-P